DEPARTMENT OF ENERGY

Federal Energy Regulatory Commission

[Project No. 5867-054]

Alice Falls Hydro, LLC; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: 5867-054.

c. Date Filed: September 29, 2021.

d. Applicant: Alice Falls Hydro, LLC.

e. Name of Project: Alice Falls Hydroelectric Project (Alice Falls Project).

f. Location: On the Ausable River, in the Town of Chesterfield, Clinton and Essex Counties, New York. The project does not occupy federal land.

g. Filed Pursuant to: Federal Power Act 16 U.S.C. 791(a)-825(r).

h. Applicant Contact: Jody Smet, Vice President, Regulatory Affairs, Eagle Creek Renewable Energy, LLC, Two Bethesda Metro Center, Suite 1330, Bethesda, MD 20814; (804) 739-0654; email—Jody.Smet@eaglecreekre.com.

i. FERC Contact: John Stokely at (202) 502-8534; or email at john.stokely@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: November 28, 2021.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Alice Falls Project (P-5867-054).

m. The application is not ready for environmental analysis at this time.

n. The Alice Falls Project consists of the following existing facilities: (1) A stone masonry dam, 88 feet long and 63 feet high; (2) a 110-foot-long section of rock ledge adjacent to the dam with 2.5-foot-high pipe-supported flashboards; (3) a reservoir with a surface area of 4.8 acres with a normal water surface elevation of 350 feet mean sea level; (4) an intake structure; (5) a divided, 45-foot-long, reinforced concrete penstock; (6) a powerhouse containing two turbine-generator units of 1.5 megawatts and 0.6 megawatts; (7) a substation; (8) a 1,500-foot-long, 46.0-kilovolt buried transmission line; and (9) appurtenant facilities.

The Alice Falls Project is operated in a run-of-river mode with an average annual generation of 4,021 megawatt-hours.

o. A copy of the application may be viewed on the Commission's website at http://www.ferc.gov using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact FERC Online Support.

You may also register online at http://www.ferc.gov/docs-filing/esubscription.asp to be notified via email of new filings and issuances related to this or other pending projects. For assistance, contact FERC Online Support.

p. Procedural schedule and final amendments: The application will be processed according to the following preliminary schedule. Revisions to the schedule will be made as appropriate.

Issue Deficiency Letter (if necessary) November 2021

Request Additional Information November 2021

Issue Acceptance Letter February 2022

Issue Scoping Document 1 for comments March 2022

Request Additional Information (if necessary) May 2022

Issue Scoping Document 2 June 2022

Issue Notice of Ready for Environmental Analysis June 2022

Final amendments to the application must be filed with the Commission no later than 30 days from the issuance date of the notice of ready for environmental analysis.

Dated: October 5, 2021.
Kimberly D. Bose,
Secretary.

[FR Doc. 2021-22185 Filed 10-12-21; 8:45 am]

BILLING CODE 6717-01-P